COMMODITY FUTURES TRADING COMMISSION

Sunshine Act Meeting

Time and Date: 2 p.m., Tuesday, April 13, 2004.

Place: 1155 21st St., NW., Washington, DC, Commission Conference Room.

Status: Closed.

Matters to Be Considered: The Commission will hold a closed Judicial Meeting.

FOR FURTHER INFORMATION CONTACT: Jean A. Webb, 202-418-5100 or http://www.cftc.gov.

Jean A. Webb,
Secretary of the Commission.

[FR Doc. 04-7854 Filed 4-2-04; 10:31 am]

BILLING CODE 6351-01-M